DEPARTMENT OF TRANSPORTATION

Federal Aviation Administration

14 CFR Part 39

[Docket No. FAA-2012-0985; Directorate Identifier 2011-NM-250-AD; Amendment 39-17585; AD 2013-19-03]

RIN 2120-AA64

Airworthiness Directives; The Boeing Company Airplanes

AGENCY: Federal Aviation Administration (FAA), DOT.

ACTION: Final rule.

SUMMARY: We are adopting a new airworthiness directive (AD) for certain The Boeing Company Model 737-600, -700, -700C, -800, -900, and -900ER series airplanes. This AD was prompted by a report of chafing damage to a wire bundle that was arcing to hydraulic tubing and caused by insufficient separation between the wire bundle and the hydraulic tubing in the main landing gear (MLG) wheel well. This AD requires an inspection for damage of wire bundles and hydraulic tubing on the right side of the forward bulkhead of the MLG wheel well; installation of new clamps; and corrective actions, as applicable. We are issuing this AD to detect and correct possible damage caused by insufficient separation between the wire bundles and hydraulic tubing to prevent electrical arcing in a flammable fluid leakage zone, which could lead to a wheel well fire.

DATES: This AD is effective November 4, 2013.

The Director of the Federal Register approved the incorporation by reference of a certain publication listed in the AD as of November 4, 2013.

ADDRESSES: For service information identified in this AD, contact Boeing Commercial Airplanes, Attention: Data & Services Management, P.O. Box 3707, MC 2H-65, Seattle, Washington 98124-2207; telephone 206-544-5000, extension 1; fax 206-766-5680; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Marie Hogestad, Aerospace Engineer, Systems and Equipment Branch, ANM-130S, FAA, Seattle Aircraft Certification Office, 1601 Lind Avenue SW., Renton, WA 98057-3356; phone: (425) 917-6418; fax: (425) 917-6590; email: marie.hogestad@faa.gov.

SUPPLEMENTARY INFORMATION:

Discussion

We issued a notice of proposed rulemaking (NPRM) to amend 14 CFR part 39 to include an AD that would apply to the specified products. The NPRM published in the Federal Register on September 20, 2012 (77 FR 58334). The NPRM proposed to require an inspection for damage of wire bundles and hydraulic tubing on the right side of the forward bulkhead of the MLG wheel well; installation of new clamps; and corrective actions, as applicable.

Comments

We gave the public the opportunity to participate in developing this AD. The following presents the comments received on the proposal (77 FR 58334, September 20, 2012) and the FAA's response to each comment.

Request To Refer to Revised Service Information

United Airlines (United) requested that we refer to the latest revision of the service information in this final rule.

We agree with United's request, since Boeing has issued Special Attention Service Bulletin 737-29-1113, Revision 1, dated March 29, 2013. That service information removes airplanes from the effectivity, which were reworked during production and on which the change specified in Boeing Special Attention Service Bulletin 737-29-1113, Revision 1, dated March 29, 2013, has already been incorporated. We have revised paragraph (g) of this final rule to refer to that revised service information, added a new paragraph (h) to this final rule to allow credit for previous actions done using Boeing Special Attention Service Bulletin 737-29-1113, dated March 23, 2011. Subsequent paragraphs have been redesignated accordingly.

Request To Clarify Source of Applicability Exclusions

American Airlines (American), Delta Airlines (Delta), and United requested that we revise the NPRM (77 FR 58334, September 20, 2012) to clarify the source of the airplane line numbers excluded from the applicability paragraph which do not appear in Boeing Special Attention Service Bulletin 737-29-1113, dated March 23, 2011, or in Boeing Service Bulletin Information Notice 737-29-1113 IN 01, dated May 20, 2011, and correct the source of the applicability information in the “Differences Between the Proposed AD and the Service Information” paragraph.

We partially agree. Boeing identified those airplanes that were reworked during production, and communicated the excluded line numbers to the FAA prior to the issuance of the NPRM (77 FR 58334, September 20, 2012). Boeing Special Attention Service Bulletin 737-29-1113, Revision 1, dated March 29, 2013, reduced the number of affected airplanes. We have revised paragraph (c) of this final rule to identify those airplanes which are affected by this AD. Because the “Differences Between Proposed AD and the Service Information” paragraph is not restated in the preamble of the final rule, we have not made any change to the final rule in that regard.

Request To Simplify Applicability

United requested that the applicability statement of the NPRM (77 FR 58334, September 20, 2012) be simplified to clearly state which airplanes are affected by the AD.

We agree with United's request. We have revised paragraph (c) of this final rule to match the line numbers as listed in Boeing Special Attention Service Bulletin 737-29-1113, Revision 1, dated March 29, 2013. We have coordinated this change with Boeing.

Request To Clarify Applicability

United requested that the applicability statement of the NPRM (77 FR 58334, September 20, 2012) be clarified since it differs from the service bulletin. United stated that Boeing Special Attention Service Bulletin 737-29-1113, dated March 23, 2011, contains a conditional statement for the required clamp installation based on whether there is sufficient separation between the wire bundle and hydraulic tubing. United reasoned that operators may elect not to install new clamps if they find sufficient separation between the wire bundling and hydraulic tubing.

We disagree with United's request because the NPRM (77 FR 58334, September 20, 2012) did not include the implied conditional applicability. This final rule applies to all airplanes listed in paragraph (c) of this AD regardless of separation between the hydraulic tubing and wire bundles. We have changed paragraph (c) of this AD to match the line numbers as listed in Boeing Special Attention Service Bulletin 737-29-1113, Revision 1, dated March 29, 2013, since this new revision of the service bulletin was released since the issuance of the NPRM.

Request To Verify Excluded Airplane Line Numbers (L/Ns) Are Correct

American and Delta requested that the FAA verify the excluded airplane L/Ns are correct in paragraph (c) “Applicability” of the NPRM (77 FR 58334, September 20, 2012) because there were discrepancies between the NPRM, Boeing Service Bulletin Information Notice (IN) 737-29-1113 IN 01, dated May 20, 2011, and Boeing Special Attention Service Bulletin 737-29-1113, dated March 23, 2011. American and Delta stated they had airplanes that should not be included in the effectivity since they did not have the hydraulic tubing that is referred to in the service information installed. American and Delta confirmed through a review of the applicable airplane illustrated parts catalogs that certain L/Ns did not have the hydraulic tubing installed (i.e. American L/Ns 3307, 3328, 3334, 3340, and 3347; Delta L/N 3338). American stated that two of its airplanes did have the hydraulic tubing installed (American L/Ns 3291 and 3298).

We agree to provide clarification. The airplane L/Ns listed by both American and Delta are excluded airplane L/Ns. The FAA has verified with Boeing that the correct airplane L/Ns are listed in the NPRM (77 FR 58334, September 20, 2012) and match the airplane L/Ns in Boeing Special Attention Service Bulletin 737-29-1113, Revision 1, dated March 29, 2013. As stated previously, we have revised paragraph (c) of this final rule to identify those airplanes that are affected by this AD. This change has been coordinated with Boeing.

Request To Add Inspection for Clamps Already Installed

United requested that the NPRM (77 FR 58334, September 20, 2012) be revised to include an inspection to look for clamps already installed prior to performing the required work, and if found, to check the part number of the subject clamp. United stated that if the clamp is not a part number listed in Boeing Special Attention Service Bulletin 737-29-1113, Revision 1, dated March 29, 2013, it should be replaced. United stated it found at least one aircraft with clamps installed on the right side of the forward bulkhead of the MLG wheel well and that it has revised its work instructions to include the clamp installation and part number inspection.

We disagree with United's request to add an inspection to look for clamps already installed prior to performing the required work because Boeing has confirmed that the airplane mentioned by United is among those listed as an excluded line number, meaning it was already reworked during production. Because both this final rule and Boeing Special Attention Service Bulletin 737-29-1113, Revision 1, dated March 29, 2013, require installation of new clamps with the correct part number, we have not made any change to this final rule in that regard.

Statement Regarding Installation of Winglets

Aviation Partners Boeing (APB) stated that the installation of winglets per supplemental type certificate (STC) ST00830SE (http://rgl.faa.gov/Regulatory_and_Guidance_Library/rgstc.nsf/0/408E012E008616A7862578880060456C?OpenDocument&Highlight=st00830se) does not affect the actions specified in the NPRM (77 FR 58334, September 20, 2012).

We concur. We have redesignated paragraph (c) of the NPRM (77 FR 58334, September 20, 2012) as paragraph (c)(1) in this final rule, added paragraph (c)(2) to this final rule, which states that STC ST00830SE (http://rgl.faa.gov/Regulatory_and_Guidance_Library/rgstc.nsf/0/408E012E008616A7862578880060456C?OpenDocument&Highlight=st00830se) does not affect the ability to accomplish the actions required by this AD. Therefore, for airplanes on which STC ST00830SE is installed, a “change in product” alternative method of compliance (AMOC) approval request is not necessary to comply with the requirements of Section 39.17 of the Federal Aviation Regulations (14 CFR 39.17). For all other AMOC requests, the operator must request approval of an AMOC in accordance with the procedures specified in paragraph (i) of this AD.

Conclusion

We reviewed the relevant data, considered the comments received, and determined that air safety and the public interest require adopting this AD with the changes described previously and minor editorial changes. We have determined that these minor changes:

• Αre consistent with the intent that was proposed in the NPRM (77 FR 58334, September 20, 2012) for correcting the unsafe condition; and

• Do not add any additional burden upon the public than was already proposed in the NPRM (77 FR 58334, September 20, 2012).

We also determined that these changes will not increase the economic burden on any operator or increase the scope of this AD.

Costs of Compliance

We estimate that this AD affects 520 airplanes of U.S. registry.

We estimate the following costs to comply with this AD:

Estimated Costs
Action | Labor cost | Parts cost | Cost per product | Cost on U.S. operators
Inspection and installation | 2 work-hours × $85 per hour = $170 | $0 | $170 | $88,400

We have received no definitive data that would enable us to provide labor cost estimates for the on-condition actions (repairing or replacing of damaged wire bundles and damaged hydraulic tubing) specified in this AD.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-19-03 The Boeing Company: Amendment 39-17585; Docket No. FAA-2012-0985; Directorate Identifier 2011-NM-250-AD.

(a) Effective Date

This AD is effective November 4, 2013.

(b) Affected ADs

None.

(c) Applicability

(1) This AD applies to The Boeing Company Model 737-600, -700, -700C, -800, -900, and -900ER series airplanes, certificated in any category, line numbers (L/Ns) 1060 through 3289 inclusive, and 3294, but excluding L/Ns 3138, 3158, 3169, 3175, 3216, 3224, 3253, and 3274.

(2) Installation of Supplemental Type Certificate (STC) ST00830SE(http://rgl.faa.gov/Regulatory_and_Guidance_Library/rgstc.nsf/0/408E012E008616A7862578880060456C?OpenDocument&Highlight=st00830se) does not affect the ability to accomplish the actions required by this AD. Therefore, for airplanes on which STC ST00830SE is installed, a “change in product” alternative method of compliance (AMOC) approval request is not necessary to comply with the requirements of 14 CFR 39.17.

(d) Subject

Joint Aircraft System Component (JASC)/Air Transport Association (ATA) of America Code 29, Hydraulic Power.

(e) Unsafe Condition

This AD was prompted by a report of chafing damage to a wire bundle that was arcing to hydraulic tubing and caused by insufficient separation between the wire bundle and the hydraulic tubing in the main landing gear (MLG) wheel well. We are issuing this AD to detect and correct possible damage caused by insufficient separation between the wire bundles and hydraulic tubing to prevent electrical arcing in a flammable fluid leakage zone, which could lead to a wheel well fire.

(f) Compliance

Comply with this AD within the compliance times specified, unless already done.

(g) Inspection and Installation

Within 24 months after the effective date of this AD: Do a general visual inspection of hydraulic tubing having part numbers (P/Ns) 272A4451-136 and 272A4451-137, and wire bundles W6128, W7122, W8122, and W8222 for wire chafing or damage, install new clamps in the right MLG wheel well, and do all applicable corrective actions, in accordance with the Accomplishment Instructions of Boeing Special Attention Service Bulletin 737-29-1113, Revision 1, dated March 29, 2013. All corrective actions must be done before further flight.

(h) Credit for Previous Actions

This paragraph provides credit for the corresponding actions specified in paragraph (g) of this AD, if those actions were performed before the effective date of this AD using Boeing Special Attention Service Bulletin 737-29-1113, dated March 23, 2011, which is not incorporated by reference in this AD.

(i) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (j)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

(j) Related Information

(1) For more information about this AD, contact Marie Hogestad, Aerospace Engineer, Systems and Equipment Branch, ANM-130S, FAA, Seattle Aircraft Certification Office, 1601 Lind Avenue SW., Renton, WA 98057-3356; phone: (425) 917-6418; fax: (425) 917-6590; email: marie.hogestad@faa.gov.

(2) Service information identified in but not incorporated by reference in this AD may be obtained at the addresses specified in paragraphs (k)(3) and (k)(4) of this AD.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Special Attention Service Bulletin 737-29-1113, Revision 1, dated March 29, 2013.

(ii) Reserved.

(3) For service information identified in this AD, contact Boeing Commercial Airplanes, Attention: Data & Services Management, P.O. Box 3707, MC 2H-65, Seattle, Washington 98124-2207; telephone 206-544-5000, extension 1; fax 206-766-5680; Internet https://www.myboeingfleet.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on September 10, 2013.
Jeffrey E. Duven,
Acting Manager, Transport Airplane Directorate, Aircraft Certification Service.

[FR Doc. 2013-23464 Filed 9-27-13; 8:45 am]

BILLING CODE 4910-13-P